DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 71 FR 69211, dated November 30, 2006) is amended to reflect the establishment of the Extramural Research Program Office within the National Center for Injury Prevention and Control, coordinating Center for Environmental Health and Injury Prevention.

Section C-B, Organization and Functions, is hereby amended as follows: After the functional statement for the Office of Communication Resources (CTC14), Office of the Director (CTC1), National Center for Injury Prevention and Control (CTC), insert the following:

Extramural Research Program Office (CTC16). The Extramural Research Program Office (ERPO) plans, develops, coordinates, and evaluates extramural research activities in cooperation with centers, divisions, and offices within the Coordinating Center for Environmental Health and Injury Prevention. In carrying out its mission, the ERPO: (1) Directs the Extramural research program by planning, coordinating, developing, implementing, monitoring, and evaluating extramural research that is designed to address center priorities; (2) participates with divisions and offices within the center to establish research priorities for the center; (3) provides scientific leadership in the areas of extramural research supported by the center; (4) promotes and prepares initiatives to stimulate extramural research in relevant priority areas; (5) coordinates and conducts in-depth external peer review and secondary program relevance review of extramural research applications by use of consultant expert panels; (6) makes recommendations to the center director on award selections and staff members serve as the program officials in conjunction with CDC grants management and policy officials to implement and monitor the scientific, technical, and administrative aspects of awards; (7) facilitates scientific collaborations between external and internal investigators; (8) disseminates and evaluates extramural research progress, findings, and impact; and (9) assists the Office of Chief Science Officer, CDC, in developing extramural research policies and oversees the implementation of those policies within the center.

Dated: January 9, 2007.
William H. Gimson,
Chief Operating Officer, Centers for Disease Control and Prevention (CDC).

[FR Doc. 07-417 Filed 1-30-07; 8:45 am]

BILLING CODE 4160-18-M